DEPARTMENT OF VETERANS AFFAIRS

Medical Research Service Merit Review Committee, Notice of Meetings

The Department of Veterans Affairs gives notice under the Federal Advisory Committee Act, 5 U.S.C. App., of the following meetings to be held from 8 a.m. to 5 p.m. as indicated below:

Subcommittee for | Date(s) | Location
Respiration | September 19, 2002 | Holiday Inn Central
Immunology & Dermatology | September 19, 2002 | Washington Plaza
Surgery | September 23, 2002 | Holiday Inn Central
Aging & Clinical Geriatrics | September 27, 2002 | Washington Plaza
Nephrology | September 27, 2002 | Holiday Inn Central
Cardiovascular Studies | September 30, 2002 | Holiday Inn Central
General Medical Science | September 30, 2002 | Holiday Inn Central
Endocrinology | October 3-4, 2002 | Marriott Residence Inn
Alcoholism & Drug Dependence | October 4, 2002 | Washington Plaza
Mental Health & Behav Sciences | October 7, 2002 | Holiday Inn Central
Gastroenterology | October 14, 2002 | Holiday Inn Central
Clinical Research Program | October 16, 2002 | Holiday Inn Central
Infectious Diseases | October 17-18, 2002 | Holiday Inn Central
Neurobiology-C | October 18, 2002 | Holiday Inn Central
Oncology | October 21-22, 2002 | Holiday Inn Central
Hematology | October 24, 2002 | Holiday Inn Central
Neurobiology-D | October 24-25, 2002 | Marriott Residence Inn
Epidemiology | October 29, 2002 | Holiday Inn Central
Medical Research Service Merit Review Committee | December 5, 2002 | Holiday Inn Central

The addresses of the hotels are:

Holiday Inn Central, 1501 Rhode Island Avenue, NW, Washington, DC

Marriott Residence Inn—Thomas Circle, 1199 Vermont Avenue, NW, Washington, DC

Washington Plaza, 10 Thomas Circle, NW, Washington, DC

These subcommittee meetings are for the purpose of evaluating the scientific merit of research conducted in each specialty by Department of Veterans Affairs (VA) investigators working in VA Medical Centers and Clinics.

The subcommittee meetings will be open to the public for approximately one hour at the start of each meeting to discuss the general status of the program. The remaining portion of each subcommittee meeting will be closed to the public for the review, discussion, and evaluation of initial and renewal projects.

The closed portion of the meetings involves discussion, examination, reference to and oral review of site visits, staff and consultant critiques of research protocols and similar documents. During this portion of the subcommittee meetings, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended by Public Law 94-409, closing portions of these subcommittee meetings is in accordance with 5 U.S.C., 552b(c) (6) and (9)(B). Those who plan to attend or would like to obtain a copy of minutes of the subcommittee meetings and rosters of the members of the subcommittees should contact LeRoy G. Frey, Ph.D., Chief, Program Review Division, Medical Research Service, Department of Veterans Affairs, Washington, DC, (202) 408-3630.

Dated: August 23, 2002.
By Direction of the Secretary.
Ron Aument,
Deputy Chief of Staff.

[FR Doc. 02-22441 Filed 9-3-02; 8:45 am]

BILLING CODE 8320-01-P